DEPARTMENT OF HOMELAND SECURITY

Coast Guard

33 CFR Part 117

[CGD08-03-012]

Drawbridge Operating Regulations; Gulf Intracoastal Waterway, Grand Lake, LA

AGENCY: Coast Guard, DHS.

ACTION: Notice of temporary deviation from regulations.

SUMMARY: The Commander, Eighth Coast Guard District, has issued a temporary deviation from the regulation governing the operation of the SR 384 (Grand Lake) pontoon bridge across the Gulf Intracoastal Waterway, mile 231.4 West of Harvey Locks, at Grand Lake, Cameron Parish, Louisiana. This deviation allows the bridge to remain closed to navigation for two four-hour periods, Monday through Thursday, from April 7 through May 22, 2003. The deviation is necessary to allow for the repairs to the fender system of the bridge.

DATES: This deviation is effective from 7 a.m. on Monday, April 7, 2003 until 5 p.m. on Thursday, May 22, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is 504-589-2965. The Bridge Administration Branch, Eighth District, maintains the public docket for this temporary deviation.

FOR FURTHER INFORMATION CONTACT: David Frank, Bridge Administration Branch, telephone (504) 589-2965.

SUPPLEMENTARY INFORMATION: The Louisiana Department of Transportation and Development has requested a temporary deviation in order to repair the fender system of the bridge for the continued safe operation of the bridge. This deviation allows the draw of the SR 384 (Grand Lake) pontoon bridge across the Gulf Intracoastal Waterway, mile 231.4 West of Harvey Locks, at Grand Lake, Cameron Parish, Louisiana to remain closed to navigation from 7 a.m. until 11 a.m. and from 1 p.m. until 5 p.m. daily, Monday through Thursday, from April 7, 2003 through May 22, 2003.

The pontoon bridge has no vertical clearance in the closed-to-navigation position. The bridge normally opens to pass navigation an average of 1005 times a month. In accordance with 33 CFR 117.5, the bridge opens on signal for the passage of vessels. The bridge will be able to open for emergencies during the closure period; however, pile-driving equipment will have to be secured and moved prior to the opening of the bridge. Navigation on the waterway consists mainly of tugs with tows and some fishing vessels. The delay of up to four hours for six weeks will not have a significant effect on these vessels. No practical alternate route is readily available.

In accordance with 33 CFR 117.35(c), this work will be performed with all due speed in order to return the bridge to normal operation as soon as possible. This deviation from the operating regulations is authorized under 33 CFR 117.35.

Dated: March 12, 2003.
Marcus Redford,
Bridge Administrator.

[FR Doc. 03-6915 Filed 3-21-03; 8:45 am]

BILLING CODE 4910-15-P